DEPARTMENT OF TRANSPORTATION

Federal Aviation Administration

Notice of Intent To Issue a Release of Obligations on Surplus Property at Elmira-Corning Regional Airport, Elmira, NY

AGENCY: Federal Aviation Administration (FAA), DOT.

ACTION: Notice of intent of waiver with respect to land.

SUMMARY: The FAA is publishing notice of the proposed release of 13 parcels of land, totaling approximately 21.1 acres, at Elmira-Corning Regional Airport, to allow their sale to the New York State Department of Transportation (NYSDOT) for the construction of a full-serve cloverleaf interchange at Kahler Road/NYS Route 17, as part of the Interstate Highway designation of Route 17.

Eleven of the subject 13 parcels of airport property were acquired between 1959 and 1981, with federal funding participation through the Airport Improvement Program (AIP), and its predecessor, the Airport Development and Planning Program (ADAP). The 2 other parcels were acquired by the Chemung County, the owner of the airport, without federal funding participation.

FAA's action is to release theland parcels from the deed provisions requiring aeronautical use of the property. These properties are not needed for current airport use, nor will they be needed for any future aeronautical use, based on the Elmira-Corning Regional Airport Layout Plan.

The NYSDOT will purchase the 21.1 acres from Chemung County at the Fair Market Value of $464,650. Chemung County will use these funds for the maintenance, operation and capital development of the Elmira-Corning Regional Airport.

Any comments the agency receives will be considered as a part of the decision.

DATES: Comments must be received on or before July 12, 2002.

ADDRESSES: Comments on this application may be mailed or delivered in triplicate to the FAA at the following address: Philip Brito, Manager, FAA New York Airports District Office, 600 Old Country Road, Suite 446, Garden City, New York 11530.

In addition, one copy of any comments submitted to the FAA must be mailed or delivered to Ms. Ann Clarke, Airport Manager, at the following address: Ms. Ann L. Clarke, Airport Manager, Elmira-Corning Regional Airport, Suite 1, 276 Sing Sing Road, Horseheads, New York 14845.

FOR FURTHER INFORMATION CONTACT: Philip Brito, Manager, New York Airports District Office, 600 Old Country Road, Suite 446, Garden City, New York 11530; telephone (516) 227-3803; FAX (516) 227-3813; E-Mail Philip.Brito@faa.gov.

SUPPLEMENTARY INFORMATION: On April 5, 2000, new authorizing legislation became effective. That bill, the Wendell H. Road Aviation Investment and Reform Act for the 21st Century, Pubic law 10-181 (Apr. 5, 2000; 114 Stat. 61) (AIR 21) requires that a 30 day public notice must be provided before the Secretary may waive any condition imposed on an interest in surplus property.

Issued in Garden City, New York on May 22, 2002.
Philip Brito,
Manager, New York Airports District Office, Eastern Region.

[FR Doc. 02-14690 Filed 6-11-02; 8:45 am]

BILLING CODE 4910-13-M